SECURITIES AND EXCHANGE COMMISSION

[Release No. 34-100768; File No. SR-NYSEARCA-2024-05]

Self-Regulatory Organizations; NYSE Arca, Inc.; Notice of Withdrawal of a Proposed Rule Change To List and Trade Shares of the COtwo Advisors Physical European Carbon Allowance Trust Under NYSE Arca Rule 8.201-E (Commodity-Based Trust Shares)

August 19, 2024.

On January 10, 2024, NYSE Arca, Inc. (“NYSE Arca” or “Exchange”) filed with the Securities and Exchange Commission (“Commission”), pursuant to Section 19(b)(1) of the Securities Exchange Act of 1934 (“Act”) ¹ and Rule 19b-4 thereunder,² a proposed rule change to list and trade shares of the COtwo Advisors Physical European Carbon Allowance Trust under NYSE Arca Rule 8.201-E (“Proposal”).

¹ 15 U.S.C. 78s(b)(1).

² 17 CFR 240.19b-4.

The Proposal was published for comment in the Federal Register on January 26, 2024.³ On March 4, 2024, pursuant to Section 19(b)(2) of the Act,⁴ the Commission designated a longer period within which to approve the Proposal, disapprove the Proposal, or institute proceedings to determine whether to disapprove the Proposal.⁵ On April 25, 2024, the Commission instituted proceedings pursuant to Section 19(b)(2)(B) of the Act ⁶ to determine whether to approve or disapprove the Proposal.⁷ On July 15, 2024, the Commission designated a longer time for Commission action on the Proposal.⁸ On August 14, 2024, the Exchange withdrew the Proposal (SR-NYSEARCA-2024-05).

³ See Securities Exchange Act Release No. 99409 (Jan. 22, 2024), 89 FR 5273. Comments on the proposed rule change are available at: https://www.sec.gov/comments/sr-nysearca-2024-05/srnysearca202405.htm.

⁴ 15 U.S.C. 78s(b)(2).

⁵ See Securities Exchange Act Release No. 99668, 89 FR 16808 (Mar. 8, 2024).

⁶ 15 U.S.C. 78s(b)(2)(B).

⁷ See Securities Exchange Act Release No. 100029, 89 FR 35289 (May 1, 2024).

⁸ See Securities Exchange Act Release No. 100537, 89 FR 58828 (Jul. 19, 2024).

For the Commission, by the Division of Trading and Markets, pursuant to delegated authority.⁹
⁹ 17 CFR 200.30-3(a)(12).
Vanessa A. Countryman,
Secretary.

[FR Doc. 2024-18910 Filed 8-22-24; 8:45 am]

BILLING CODE 8011-01-P